DEPARTMENT OF ENERGY

Federal Energy Regulatory Commission

Combined Notice of Filings

Take notice that the Commission has received the following Natural Gas Pipeline Rate and Refund Report filings:

Docket Numbers: RP20-1183-000.

Applicants: El Paso Natural Gas Company, L.L.C.

Description: § 4(d) Rate Filing: Negotiated Rate Agreement Update (Pioneer Oct-Dec 2020) to be effective 10/1/2020.

Filed Date: 9/10/20.

Accession Number: 20200910-5153.

Comments Due: 5 p.m. ET 9/22/20.

Docket Numbers: RP20-1184-000.

Applicants: Midwestern Gas Transmission Company.

Description: § 4(d) Rate Filing: Update Summary of Non-Conforming Agreements—2020 to be effective 11/1/2020.

Filed Date: 9/11/20.

Accession Number: 20200911-5040.

Comments Due: 5 p.m. ET 9/23/20.

Docket Numbers: RP20-1185-000.

Applicants: Iroquois Gas Transmission System, L.P.

Description: § 4(d) Rate Filing: 091120 Negotiated Rates—Consolidated Edison Energy, Inc. R-2275-14 to be effective 11/1/2020.

Filed Date: 9/11/20.

Accession Number: 20200911-5054.

Comments Due: 5 p.m. ET 9/23/20.

Docket Numbers: RP20-1186-000.

Applicants: Iroquois Gas Transmission System, L.P.

Description: § 4(d) Rate Filing: 091120 Negotiated Rates—Shell Energy North America (US), L.P. R-2170-19 to be effective 11/1/2020.

Filed Date: 9/11/20.

Accession Number: 20200911-5057.

Comments Due: 5 p.m. ET 9/23/20.

Docket Numbers: RP20-1187-000.

Applicants: Iroquois Gas Transmission System, L.P.

Description: § 4(d) Rate Filing: 091120 Negotiated Rates—Twin Eagle Resource Management, LLC R-7300-19 to be effective 11/1/2020.

Filed Date: 9/11/20.

Accession Number: 20200911-5058.

Comments Due: 5 p.m. ET 9/23/20.

Docket Numbers: RP20-1188-000.

Applicants: Iroquois Gas Transmission System, L.P.

Description: § 4(d) Rate Filing: 091120 Negotiated Rates—Uniper Global Commodities North America LLC R-7650-03 to be effective 11/1/2020.

Filed Date: 9/11/20.

Accession Number: 20200911-5059.

Comments Due: 5 p.m. ET 9/23/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 11, 2020.
Nathaniel J. Davis, Sr.,
Deputy Secretary.

[FR Doc. 2020-20532 Filed 9-16-20; 8:45 am]

BILLING CODE 6717-01-P